ENVIRONMENTAL PROTECTION AGENCY

40 CFR Part 52

[EPA-R09-OAR-2013-0194; FRL- 9804-7]

Revisions to the Arizona State Implementation Plan, Maricopa County Area

AGENCY: Environmental Protection Agency (EPA).

ACTION: Proposed rule.

SUMMARY: EPA is proposing to approve revisions to the Maricopa County Area portion of the Arizona State Implementation Plan (SIP). These revisions concern particulate matter (PM10) emissions from fugitive dust sources. We are approving local statutes that regulate these emission sources under the Clean Air Act as amended in 1990 (CAA or the Act). We are taking comments on this proposal and plan to follow with a final action.

DATES: Any comments must arrive by May 20, 2013.

ADDRESSES: Submit comments, identified by docket number EPA-R09-OAR-2013-0194, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment.

Docket: Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Robert Marinaro, (415) 972-3019, marinaro.robert@epa.gov or Nancy Levin, (415) 972-3848, levin.nancy@epa.gov, EPA Region IX,

SUPPLEMENTARY INFORMATION: Throughout this document, “we,” “us” and “our” refer to EPA.

Table of Contents

I. The State's Submittal

A. What statutes did the State submit?

B. Are there other versions of these statutes?

C. What is the purpose of the submitted statutes?

II. EPA's Evaluation and Action

A. How is EPA evaluating these statutes?

B. Do the statutes meet the evaluation criteria?

C. EPA Recommendations To Further Improve the Statutes

D. Public Comment and Final Action

III. Statutory and Executive Order Reviews

I. The State's Submittal

A. What statutes did the State submit?

Table 1 lists the statutes addressed by this proposal with the dates that they were adopted and submitted by the Arizona Department of Environmental Quality (ADEQ).

Table 1—Submitted Statutes
Local agency | Statute No. | Statute title | Adopted | Submitted
ADEQ | 9-500.04 | Air Quality Control; Definitions | 07/02/07 | 05/25/12
ADEQ | 11-877 | Air Quality Control Measures | 07/02/07 | 05/25/12
ADEQ | 49-457.01 | Leaf Blower Use Restrictions and Training; Leaf Blower Equipment Sellers; Informational Material; Outreach; Applicability | 07/02/07 | 05/25/12
ADEQ | 49-474.01 | Additional Board Duties in Vehicle Emissions Control Areas; Definitions | 07/02/07 | 05/25/12
ADEQ ADEQ | 49-474.05 49-474.06 | Dust Control; Training; Site Coordinators Dust Control; Subcontractor Registration; Fee | 07/02/07 07/02/07 | 05/25/12 05/25/12

On July 20, 2012 EPA determined that the submittal for Maricopa County, Statutes: 9-500.04, 11-877, 49-457.01, 49-474.01, 49-474.05, and 49-474.06 met the completeness criteria in 40 CFR Part 51 Appendix V, which must be met before formal EPA review.

B. Are there other versions of these statutes?

There are no previous versions of statutes 9-500.04, 11-877, 49-457.01, 49-474.01, 49-474.05, and 49-474.06 in the SIP, although ADEQ adopted these statutes on July 2, 2007. ADEQ submitted them to us on December 21, 2007; however, they were consequently withdrawn on January 25, 2011 and then resubmitted on May 25, 2012.

C. What is the purpose of the submitted statutes?

PM contributes to effects that are harmful to human health and the environment, including premature mortality, aggravation of respiratory and cardiovascular disease, decreased lung function, visibility impairment, and damage to vegetation and ecosystems. Section 110(a) of the CAA requires States to submit regulations that control PM emissions.

Statute 9-500.04 requires municipalities to stabilize certain unpaved roads, alleys, and unpaved shoulders. Additionally, it requires the stabilization of parking and traffic areas and restricts parking and vehicle use on unpaved or unstabilized vacant lots.

Statute 11-877 mandates counties to develop, implement, and enforce air quality control measures that prohibit any person from operating leaf blowers on any high pollution advisory day except while in vacuum mode.

Statute 49-457.01 prohibits the use of leaf blowers to blow landscape debris into public roadways and limits their use to stabilized surfaces. It also mandates the County to produce and distribute materials to educate operators for the purpose of minimizing entrained dust.

Statute 49-474.01 requires counties, densely populated areas, and serious nonattainment areas to stabilize certain unpaved roads, parking, and traffic areas. Additionally, it restricts parking and vehicle use on unpaved or unstabilized vacant lots and requires certified street sweepers.

Statute 49-474.05 requires counties, densely populated areas, and serious nonattainment areas to have an air pollution control officer (APCO) to develop and implement training programs. Additionally, it requires an on-site dust control coordinator who has full authority to ensure implementation of dust control measures.

Statute 49-474.06 requires subcontractors in counties, densely populated areas, and serious nonattainment areas engaging in dust generation operations to register with the APCO. The APCO may also establish registration fees.

EPA's technical support documents (TSD) have more information about these statutes.

II. EPA's Evaluation and Action

A. How is EPA evaluating the statutes?

Generally, SIP measures must be enforceable (see section 110(a) of the Act) and must not relax existing requirements (see sections 110(l) and 193).

Guidance and policy documents that we use to evaluate enforceability consistently include the following:

1. “Issues Relating to VOC Regulation Cutpoints, Deficiencies, and Deviations; Clarification to Appendix D of November 24, 1987 Federal Register Notice,” (Blue Book), notice of availability published in the May 25, 1988 Federal Register.

2. “Guidance Document for Correcting Common VOC & Other Rule Deficiencies,” EPA Region 9, August 21, 2001 (the Little Bluebook).

3. “State Implementation Plans; General Preamble for the Implementation of Title I of the Clean Air Act Amendments of 1990,” 57 FR 13498 (April 16, 1992); 57 FR 18070 (April 28, 1992).

4. “State Implementation Plans for Serious PM-10 Nonattainment Areas, and Attainment Date Waivers for PM-10 Nonattainment Areas Generally; Addendum to the General Preamble for the Implementation of Title I of the Clean Air Act Amendments of 1990,” 59 FR 41998 (August 16, 1994).

5. “PM-10 Guideline Document,” EPA 452/R-93-008, April 1993.

6. State of Arizona Senate Bill 1552, Adopted July 2, 2007.

7. A Report of the California Legislature on the Potential Health and Environmental Impacts of Leaf Blowers, California Air resources Board, February 2000.

B. Do the statutes meet the evaluation criteria?

We believe these statutes are consistent with the relevant policy and guidance regarding enforceability and SIP relaxations. The TSDs have more information on our evaluation.

C. EPA Recommendations To Further Improve the Statutes

The TSDs describe additional revisions that we recommend for the next time the local agency modifies the statutes but are not currently the basis for rule disapproval. This is particularly the case with the leaf blower statutes: 11-877 and 49-457.01.

D. Public Comment and Final Action

Because EPA believes the submitted statutes fulfill all relevant requirements, we are proposing to fully approve them as described in section 110(k)(3) of the Act. We will accept comments from the public on this proposal for the next 30 days. Unless we receive convincing new information during the comment period, we intend to publish a final approval action that will incorporate these statutes into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this proposed action merely proposes to approve State law as meeting Federal requirements and does not impose additional requirements beyond those imposed by State law. For that reason, this proposed action:

• is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this proposed action does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Intergovernmental relations, Particulate matter, Reporting and recordkeeping requirements.

Authority: 42 U.S.C. 7401 et seq.

Dated: April 9, 2013.
Jared Blumenfeld,
Regional Administrator, Region IX.

[FR Doc. 2013-09288 Filed 4-18-13; 8:45 am]

BILLING CODE 6560-50-P